ENVIRONMENTAL PROTECTION AGENCY

[FRL-7476-9]

Notice of Disclosure of Confidential Business Information Obtained Under the Comprehensive Environmental Response, Compensation and Liability Act to EPA Contractors Booz Allen Hamilton, Incorporated and ASRC Aerospace Corporation

AGENCY: Environmental Protection Agency (EPA).

ACTION: Notice; request for comment.

SUMMARY: EPA hereby complies with the requirements of 40 CFR 2.301(h) for authorization to disclose to its contractor, Booz Allen Hamilton, Incorporated (“Booz Allen Hamilton, Incorporated”), of McLean, Virginia, Superfund confidential business information (“CBI”) which has been submitted to EPA Region 1, Office of Site Remediation and Restoration, Search and Cost Recovery Section, Booz Allen Hamilton, Incorporated principal offices are located at 8283 Greensboro Drive, McLean, VA 20770, and ASRC Aerospace Corporation (hereinafter “ASRC Aerospace Corporation”), of Greenbelt, Maryland, Superfund confidential business information (“CBI”) which has been submitted to EPA Region 1, Office of Site Remediation and Restoration, Search and Cost Recovery Section, ASRC Aerospace Corporation's principal offices are located at 6301 Ivy Lane, Suite 300, Greenbelt, Maryland 20770.

DATES: Comments are due by April 17, 2003.

ADDRESSES: Comments should be submitted to Patricia M. Inglis, Office of Site Remediation and Restoration, U.S. Environmental Protection Agency, One Congress Street, Suite 1100, Boston, MA 02114-2023.

FOR FURTHER INFORMATION CONTACT: Patricia M. Inglis at (617) 918-1413.

SUPPLEMENTARY INFORMATION:

Notice of Required Determines, Contract Provisions and Opportunity to Comment

A. Booz Allen Hamilton, Incorporated

The Comprehensive Environmental Response, Compensation and Liability Act of 1980 (“CERCLA”), as amended, (commonly known as “Superfund”) requires the establishment of an administrative record upon which the President shall base the selection of a response action. CERCLA also requires the maintenance of many other records, including those relevant to cost recovery. EPA has entered into a contract, No. R16800391 with A. Booz Allen Hamilton, Incorporated for management of these records. EPA Region 1 has determined that disclosure of CBI to Booz Allen Hamilton, Incorporated employees is necessary in order that Booz Allen Hamilton, Incorporated may carry out the work required by that contract with EPA. The contract complies with all requirements of 40 CFR 2.301(h)(2)(ii). EPA Region 1 will require that each Booz Allen Hamilton, Incorporated employee sign a written agreement that he or she (1) will use the information only for the purpose of carrying out the work required by the contract, (2) shall refrain from disclosing the information to anyone other than EPA without the prior written approval of each affected business or of an EPA legal office, and (3) shall return to EPA all copies of the information (and any abstracts or extracts therefrom) upon request from the EPA program office, whenever the information (and any abstracts or extracts therefrom) upon request from the EPA program office, whenever the information is no longer required by Booz Allen Hamilton, Incorporated for performance of the work required by the contract, or upon completion of the contract. These non-disclosure statements shall be maintained on file with the Region 1 Delivery Order Project Officer. Booz Allen Hamilton, Incorporated employees will be trained on Superfund CBI requirements.

B. ASRC Aerospace Corporation

The Comprehensive Environmental Response, Compensation and Liability Act of 1980 (“CERCLA”), as amended, (commonly known as “Superfund”) requires the establishment of an administrative record upon which the President shall base the selection of a response action. CERCLA also requires the maintenance of many other records, including those relevant to cost recovery. EPA has entered into a contract, No. 68-R1-02-01 with ASRC Aerospace Corporation for management of these records. EPA Region 1 has determined that disclosure of CBI to ASRC Aerospace Corporation employees is necessary in order that ASRC Aerospace Corporation may carry out the work required by that contract with EPA. The contract complies with all requirements of 40 CFR 2.301(h)(2)(ii). EPA Region 1 will require that each ASRC Aerospace Corporation employee sign a written agreement that he or she (1) will use the information only for the purpose of carrying out the work required by the contract, (2) shall refrain from disclosing the information to anyone other than EPA without the prior written approval of each affected business or of an EPA legal office, and (3) shall return to EPA all copies of the information (and any abstracts or extracts therefrom) upon request from the EPA program office, whenever the information (and any abstracts or extracts therefrom) upon request from the EPA program office, whenever the information is no longer required by ASRC Aerospace Corporation for performance of the work required by the contract, or upon completion of the contract. These non-disclosure statements shall be maintained on file with the Region 1 Delivery Order Project Officer. ASRC Aerospace Corporation employees will be trained on Superfund CBI requirements.

EPA hereby advises affected parties that they have ten working days to comment pursuant to 40 CFR 2.301(h)(2)(iii).

Dated: March 20, 2003.
Stanley D. Chin,
Acting Director, Office of Site Remediation and Restoration, Region 1.

[FR Doc. 03-8368 Filed 4-4-03; 8:45 am]

BILLING CODE 6560-50-P